DEPARTMENT OF TRANSPORTATION

Research and Special Programs Administration (RSPA)

[Docket No. RSPA-98-4470]

Pipeline Safety: Meeting of Gas Pipeline Safety Advisory Committee

AGENCY: Office of Pipeline Safety, Research and Special Programs Administration, DOT.

ACTION: Notice of technical pipeline safety standards advisory committee meeting (TPSSC).

SUMMARY: Pursuant to section 10(a)(2) of the Federal Advisory Committee Act (Pub. L. 92-463, 5 U.S.C. App. 1) notice is given of a public meeting of the Technical Pipeline Safety Standards Committee (TPSSC) to be conducted by the Research and Special Programs Administration's (RSPA), Office of Pipeline Safety (OPS). The meeting will be held on Thursday, September 13, 2001 from 9 a.m. to 5 p.m.

The TPSSC is a statutorily mandated advisory committee that advises RSPA on proposed safety standards for gas pipelines. The committee consists of 15 members—five each representing government, industry, and the public.

On July 27, 2001, RSPA issued a notice of request for comments, “Pipeline Safety: Integrity Management in High Consequence Areas (Gas Transmission Pipelines),” (66 FR 34318). RSPA sought further information and clarification, and invited further public comment about integrity management concepts as they relate to gas pipelines. A copy of the notice and comments received in docket number RSPA 00-7666 are available over the Internet from the DOT Dockets Management System http://dms.dot.gov. To prepare the TPSSC for future consideration of proposed rules on integrity management programs for gas pipelines, RSPA will brief the Committee on integrity management concepts for gas pipelines and on the comments received in response to the notice.

Discussions will be focused on a summary of comments on the seven elements described in the notice:

1. Defining high consequence areas.

2. Identifying and evaluating threats to pipeline integrity.

3. Selecting the assessment technologies.

4. Determining time frames to conduct a baseline integrity assessment and to make repairs.

5. Identifying and implementing additional preventive and mitigative measures.

6. Continually evaluating and reassessing pipeline segments.

7. Monitoring the effectiveness of the management process.

In addition, the TPSSC will be briefed on the progress of the American Society of Mechanical Engineers' B31.8 Committee on the Integrity Management Standard. This new standard will outline the technical guidance for implementation of an operator's integrity management plan, including data management, quality control, management of change and communication.

Information on Services for Individuals With Disabilities

For information on facilities or services for individuals with disabilities or to request special assistance at the meeting, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: Members of the public may attend the meeting in person at Dulles Airport Marriott, 45020 Aviation Drive, Dulles, VA 20166; phone (703) 471-9500. Due to limited space, anyone wishing to attend or participate should notify Juan Carlos Martinez, at (202) 366-1933, not later than August 30, 2001.

Authority: 49 U.S.C. 60102, 60115.

Issued in Washington, DC on August 10, 2001.
Stacey L. Gerard,
Associate Administrator for Pipeline Safety.

[FR Doc. 01-20634 Filed 8-15-01; 8:45 am]

BILLING CODE 4910-60-P